DEPARTMENT OF DEFENSE

Defense Acquisition Regulations System

Information Collection Requirement; Defense Federal Acquisition Regulation Supplement; Service Contracting

AGENCY: Defense Acquisition Regulation System, Department of Defense (DoD).

ACTION: Notice and request for comments regarding a proposed extension of an approved information collection requirement.

SUMMARY: In compliance with Section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through January 31, 2014. DoD proposes that OMB extend its approval for these collections to expire three years after the approval date.

DATES: DoD will consider all comments received by January 14, 2014.

ADDRESSES: You may submit comments, identified by OMB Control Number 0704-0231, using any of the following methods:

○ Federal eRulemaking Portal: http://www.regulations.gov. Follow the instructions for submitting comments.

○ Email: dfars@mail.mil. Include OMB Control Number 0704-0231 in the subject line of the message.

○ Fax: (571) 372-6094.

○ Mail: Defense Acquisition Regulations System, Attn: Ms. Lesa Scott, OUSD(AT&L)DPAP(DARS), Room 3B855, 3060 Defense Pentagon, Washington, DC 20301-3060.

Comments received generally will be posted without change to http://www.regulations.gov, including any personal information provided.

FOR FURTHER INFORMATION CONTACT: Ms. Lesa Scott, at (571) 372-6104. The information collection requirements addressed in this notice are available on the World Wide Web at: http://www.acq.osd.mil/dpap/dars/dfarspgi/current/index.htm. Paper copies are available from Ms. Lesa Scott, OUSD(AT&L)DPAP(DARS), Room 3B855, 3060 Defense Pentagon, Washington, DC 20301-3060.

SUPPLEMENTARY INFORMATION:

Title, Associated Form, and OMB Number: Defense Federal Acquisition Regulation Supplement (DFARS) part 237, Service Contracting, and associated clauses at DFARS 252.237-7000, Notice of Special Standards of Responsibility; 252.237-7011, Preparation History, and DD Form 2063, Record of Preparation and Disposition of Remains (Within CONUS); 252.237-7023, Continuation of Essential Contractor Services; and 252.237-7024, Notice of Continuation of Essential Contractor Services; OMB Control Number 0704-0231, which incorporates the annual reporting burden previously approved under OMB Control Number 0704-0465.

Needs and Uses: This information collection is used by contracting officers for three distinct purposes.

Audit Services. The clause at 252-237.7000 is used to provide information that enables verification that the apparently successful offeror for audit services is licensed by the cognizant licensing authority in the state or other political jurisdiction where the offeror operates its professional practice.

Mortuary Services. The clause at DFARS 252-237.7011 and DD Form 2063 are used (a) to ensure the mortuary contractor has properly prepared the body, and (b), by the contract carrier, so that the body can be shipped by that carrier. When additional preparation of the body is required subsequent to shipment, information regarding the initial preparation of the body may be used by the mortuary services contractor to whom the body has been shipped.

Continuation of Essential Services. The provision at DFARS 252.237-7024 requires offerors to submit with its offer a written plan describing how it will continue to perform essential contractor services during periods of crisis. The associated clause at 252.237-7023 requires the contractor to maintain and update its plan as necessary.

Affected Public: Businesses and other for-profit entities and not-for-profit institutions.

Number of Respondents: 7,810.

Average Responses per Respondent: 1.22.

Annual Responses: 9,560.

Average Burden per Response: Approximately 1.87 hours.

Annual Response Burden Hours: 17,905.

Reporting Frequency: On occasion.

Summary of Information Collection

DFARS Part 237, the clauses at DFARS 252.237-7000, 252.237-7011, 252.237-7023, 252.237-7024, and DD Form 2063 are required for DoD contracting officers to—

(a) Verify that the apparently successful offeror for audit services is properly licensed in the state or other political jurisdiction where the offeror operates its professional practice;

(b) Verify the mortuary contractor has properly prepared a body for shipment. The mortuary contractor to whom the body has been shipped may use the information regarding the initial preparation of the body when additional preparation is required subsequent to shipment; or

(c) Ensure the contractor submits a written plan that demonstrates its ability to continue providing contractually required mission critical functions in an emergency.

Manuel Quinones,
Editor, Defense Acquisition Regulations System.

[FR Doc. 2013-27306 Filed 11-14-13; 8:45 am]

BILLING CODE 5001-06-P